SMALL BUSINESS ADMINISTRATION

Data Collection Available for Public Comments

ACTION: 60 Day notice and request for comments.

SUMMARY: In accordance with the Paperwork Reduction Act of 1995, this notice announces the Small Business Administration's intentions to request approval on a new and/or currently approved information collection.

DATES: Submit comments on or before January 3, 2017.

ADDRESSES: Send all comments regarding whether this information collection is necessary for the proper performance of the function of the agency, whether the burden estimates are accurate, and if there are ways to minimize the estimated burden and enhance the quality of the collection, to Kirk McElwain, Director, Office of Communications, Small Business Administration, 409 3rd Street SW., 7th Floor, Washington, DC 20416.

FOR FURTHER INFORMATION CONTACT:

Kirk McElwain, Director, Office of Communications, 202-205-6175 kirk.mcelwain@sba.gov

Curtis B. Rich, Management Analyst, 202-205-7030 curtis.rich@sba.gov

SUPPLEMENTARY INFORMATION:

SBA.Direct is an optional feature of SBA.gov that helps bring customized, relevant SBA.gov information directly to the user which will help site visitors, including small business owners, the ability to quickly and efficiently locate content on SBA.gov SBA Community is also an optional feature of SBA.gov which allows users to contribute to SBA.gov by posting success stories, comments, or questions in an online forum interface.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: ”SBA Direct and SBA Online Community”.

Description of Respondents: SBA Web site users.

Form Number: N/A.

Annual Responses: 413,000.

Annual Burden: 4,325.

Curtis Rich,
Management Analyst.

[FR Doc. 2016-26293 Filed 10-31-16; 8:45 am]

BILLING CODE 8025-01-P